DEPARTMENT OF THE INTERIOR

Bureau of Land Management

[LLCAN01000 L10200000.XZ0000 16X LXSIOVHD0000]

Notice of Public Meeting: Northern California Resource Advisory Council Resource Management Plan Subcommittee

AGENCY: Bureau of Land Management, Interior.

ACTION: Notice of public meeting.

SUMMARY: In accordance with the Federal Land Policy and Management Act of 1976 (FLPMA), and the Federal Advisory Committee Act of 1972 (FACA), the U.S. Department of the Interior, Bureau of Land Management (BLM) Northern California Resource Advisory Council will meet as indicated below.

DATES: The meeting will be held Thursday, June 23, 2016. The council subcommittee will convene at 9 a.m. via Video Teleconference (VTC). Members of the public are welcome.

ADDRESSES: Bureau of Land Management Arcata and Redding Field Offices. The Arcata Field Office is located at 1695 Heindon Road, Arcata, CA. The Redding Field Office is located at 355 Hemsted Drive, Redding, CA.

FOR FURTHER INFORMATION CONTACT: Todd Forbes, Northern California District Manager, (530) 224-2160; or Leisyka Parrott, Acting Public Affairs Officer, (707) 825-2313. Persons who use a telecommunications device for the deaf (TDD) may call the Federal Information Relay Service (FIRS) at (800) 877-8339, to contact the above individual during normal business hours. The FIRS is available 24 hours a day, 7 days a week, to leave a message or question with the above individual. You will receive a reply during normal business hours.

SUPPLEMENTARY INFORMATION: The 15-member council advises the Secretary of the Interior, through the BLM, on a variety of planning and management issues associated with public land management on BLM-administered lands in northern California and far northwest Nevada. At this meeting the RAC will discuss development of the Northern California Integrated Resource Management Plan, results from public envisioning meetings and next steps in the planning process. All meetings are open to the public. Members of the public may present written comments to the council. Each formal council meeting will have time allocated for public comments. Depending on the number of persons wishing to speak, and the time available, the time for individual comments may be limited. Individuals who plan to attend and need special assistance, such as sign language interpretation and other reasonable accommodations, should contact the BLM as provided above.

Chris Heppe,
Arcata Assistant Field Office Manager.

[FR Doc. 2016-10745 Filed 5-5-16; 8:45 am]

BILLING CODE 4310-40-P